ENVIRONMENTAL PROTECTION AGENCY

[EPA-R01-OW-2008-0212; FRL-8569-8]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Scituate, Marshfield, Cohasset, and the tidal portions of the North and South Rivers.

ADDRESSES: Docket: All documents in the docket are listed in the http://www.regulations.gov index. Although listed in the index, some information is not publicly available, e.g., CBI or other information whose disclosure is restricted by statute. Certain other material, such as copy-righted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: Rodney.ann@epa.gov.

SUPPLEMENTARY INFORMATION: This Notice of Determination is for the state waters of Scituate, Marshfield, Cohasset, and the tidal portions of the North and South Rivers. The area of designation includes:

Waterbody/general area | Latitude | Longitude
Northern extent of Green Harbor at the Rt 139 causeway | 42°05′11″ N | 70°39′03″ W.
South and west along the South River to the Willow Street Bridge | 42°05′34″ N | 70°42′43″ W.
South and west along the North River to Columbia Road Bridge | 42°06′26″ N | 70°48′31″ W.
South along the navigable extent of the Gulf River | 42°13′30″ N | 70°47′06″ W.

The NDA boundary also includes coastal waters within municipal boundaries, westward of a delineation that extends from:

Waterbody/general area | Latitude | Longitude
Marshfield municipal boundary | 42°04′22″ N | 70°38′54″ W.
East to navigational marker R “2GH” located off Howland Ledge | 42°04′36″ N | 70°36′48″ W.
North to navigational marker G “21'' F1 G 4 S. Whistle located east of Minot Light | 42°16′33″ N | 70°42′20″ W.
Northwest on a heading to Thieves Ledge G “1'' QG Whistle | 42°19′ 33″N | 70°49′ 50″ W.
To Cohasset municipal boundary | 42°18′34″ N | 70°47′25″ W.
Southwest to Cohasset municipal boundary | 42°15′53″ N | 70°49′34″ W.

On April 11, 2008, notice was published that the Commonwealth of Massachusetts had petitioned the Regional Administrator, Environmental Protection Agency, to determine that adequate facilities for the safe and sanitary removal and treatment of sewage from all vessels are reasonably available for the state waters of Scituate, Marshfield, Cohasset, and the tidal portions of the North and South Rivers. No comments were received on this petition.

The petition was filed pursuant to Section 312(f)(3) of Public Law 92-500, as amended by Public Laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to EPA by the Commonwealth of Massachusetts certifies that there are ten pumpout facilities located within the proposed area. A list of the facilities, with phone numbers, locations, and hours of operation is appended at the end of this determination.

Based on the examination of the petition, its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities within Proposed No Discharge Area
Name | Location | Contact info | Hours | Mean low water depth
Cohasset Harbormaster | Cohasset Harbor | (781) 383-0863 VHF 10, 16 | 15 May-1 Nov 9:00 a.m.-9:00 p.m. | N/A. Boat Service.
Cole Parkway Marina | Scituate Harbor | (781) 545-2130 VHF 9 | 15 May-15 October 8:00 a.m.-4:00 p.m. | 6 ft.
Harbor Mooring Service | North and South Rivers | (781) 544-3130 Cell (617) 281-4365 VHF 9 | 15 April-1 November Service provided on-call | N/A. Boat Service.
James Landing Marina | Herring River, Scituate | (781) 545-3000 | 1 May-15 Oct 8 a.m.-4:30 p.m. | 6 ft.
Waterline Mooring | Scituate Harbor | (781) 545-4154 VHF 9, 16 | 15 May-15 Oct 8 a.m.-5 p.m. Or by appointment | N/A. Boat Service.
Green Harbor Town Pier | Green Harbor, Marshfield | (781) 834-5541 VHF 9, 16 | 1 April-15 Nov 24/7 Self-Serve 15 May-30 Sept Attendant Service 8 a.m.-11:30 p.m. | 4 ft.
Bridgewaye Marina | South River, Marshfield | (781) 837-9343 VHF 9, 11 | 15 June-15 October 9-5 p.m | 6 ft.
Erickson's Marina | South River, Marshfield | (781) 837-2687 | 15 March-15 November 8 a.m.-5 p.m. | 4 ft.
White's Ferry Marina | South River, Marshfield | (781) 837-9343 VHF 9, 11 | 15 June-15 October 9-5 p.m | 4 ft.
Mary's Boat Livery | North River, Marshfield | (781) 837-2322 VHF 9, 16 | 15 May-1 Oct 8 a.m.-4 p.m. | 4 ft.
** Marshfield Yacht Club | South River, Marshfield | TBA | TBA | TBA.
** South River Boat Ramp | South River, Marshfield | TBA | TBA | TBA.
** Pending facilities.

Dated: May 14, 2008.
Robert W. Varney,
Regional Administrator, Region 1.

[FR Doc. E8-11485 Filed 5-21-08; 8:45 a.m.]

BILLING CODE 6560-50-P